GOVERNMENT ACCOUNTABILITY OFFICE

Appointments to the Medicare Payment Advisory Commission

AGENCY: Government Accountability Office (GAO).

ACTION: Notice of appointments.

SUMMARY: The Balanced Budget Act of 1997 established the Medicare Payment Advisory Commission (MedPAC) and gave the Comptroller General responsibility for appointing its members. This notice announces three new appointments and four reappointments to fill the vacancies occurring this year.

DATES: Appointments are effective May 1, 2007 through April 30, 2010, except as noted.

ADDRESSES: GAO: 441 G Street, NW., Washington, DC 20548. MedPAC: 601 New Jersey Avenue, NW., Suite 9000, Washington, DC 20001.

FOR FURTHER INFORMATION CONTACT: GAO Office of Public Affairs, (202) 512-4800. MedPAC: Mark E. Miller, PhD, (202) 220-3700.

SUPPLEMENTARY INFORMATION: To fill this year's vacancies I am announcing the following:

Newly appointed members are Thomas M. Dean, M.D., Chief of Staff, Avera Weskota Memorial Medical Center; Jack C. Ebeler, Independent consultant; and Bruce Stuart, PhD, professor and executive director, Peter Lamy Center on Drug Therapy and Aging, University of Maryland Baltimore. Professor Stuart is appointed to complete the remaining two years of Douglas Holtz-Eakin's three-year term that began in 2006. Holtz-Eakin resigned from his position on MedPAC effective May 2, 2007.

Reappointed members are John M. Bertko, F.S.A., M.A.A.A., vice president and chief actuary, Humana Inc.; Francis J. Crosson, M.D., executive director, the Permanente Federation, LLC; Arnold Milstein, M.D., M.P.H., medical director, Pacific Business Group on Health; and William J. Scanlon, PhD, health policy consultant.

(Sec. 4022, Pub. L. 105-33, 111 Stat. 251, 350)

David M. Walker,
Comptroller General of the United States.

[FR Doc. 07-2680 Filed 5-30-07; 8:45 am]

BILLING CODE 1610-02-M